DEPARTMENT OF LABOR

Employment and Training Administration

[TA-W-72,582]

General Motors Corporation; Powertrain Flint North; Including On-Site Leased Workers From Allegis Group Services, Securitas, Knight Management and URS Corporation, Flint, MI; Amended Certification Regarding Eligibility To Apply for Worker Adjustment Assistance

In accordance with Section 223 of the Trade Act of 1974, as amended (“Act”), 19 U.S.C. 2273, the Department of Labor issued a Certification of Eligibility to Apply for Worker Adjustment Assistance on July 9, 2010, applicable to workers of General Motors Corporation, Powertrain Flint North, including on-site leased workers from Allegis Group Service, Flint, Michigan. The Notice was published in the Federal Register on July 26, 2010 (75 FR 43558). The Notice was amended on November 18, 2010 to include on-site leased workers from Securitas and Knight Management. The amended Notice was published in the Federal Register on December 7, 2010 (75 FR 76038-76039)

At the request of a company official, the Department reviewed the certification for workers of the subject firm. The workers are engaged in the production of component parts (transmission and engine components and deck and door locks).

At the request of the State agency, the Department reviewed the certification for workers of the subject firm.

The company reports that workers leased from URS Corporation were employed on-site at the Flint, Michigan location of General Motors Corporation, Powertrain Flint North. The Department has determined that these workers were sufficiently under the control of General Motors Corporation, Powertrain Flint North to be considered leased workers.

Based on these findings, the Department is amending this certification to include workers leased from URS Corporation working on-site at the Flint, Michigan location of General Motors Corporation, Powertrain Flint North.

The amended notice applicable to TA-W-72,582 is hereby issued as follows:

All workers of General Motors Corporation, Powertrain Flint North, including on-site leased workers from Allegis Group Services, Securitas, Knight Management, and URS Corporation, Flint, Michigan, who became totally or partially separated from employment on or after October 2, 2008, through July 9, 2012, and all workers in the group threatened with total or partial separation from employment on the date of certification through two years from the date of certification, are eligible to apply for adjustment assistance under Chapter 2 of Title II of the Trade Act of 1974, as amended.

Signed at Washington, DC, this 3rd day of March 2011.
Elliott S. Kushner
Certifying Officer, Office of Trade Adjustment Assistance.

[FR Doc. 2011-5655 Filed 3-11-11; 8:45 am]

BILLING CODE 4510-FN-P